DEPARTMENT OF THE INTERIOR

Minerals Management Service

Outer Continental Shelf (OCS) Scientific Committee (SC); Announcement of Plenary Session

AGENCY: Minerals Management Service (MMS), Interior.

ACTION: Notice of meeting.

SUMMARY: The OCS Scientific Committee will meet at the Hotel Mar Monte in Santa Barbara, California.

DATES: Wednesday, May 10, 2006, from 8 a.m. to 5:30 p.m.; Thursday, May 11, 2006, from 8 a.m. to 5:30 p.m.; and Friday, May 12, 2006, 8:30 a.m. to 12:30 p.m.

ADDRESSES: Hotel Mar Monte, 1111 East Cabrillo Blvd., Santa Barbara, California 93103, telephone (805) 963-0744.

FOR FURTHER INFORMATION CONTACT: A copy of the agenda may be requested from MMS by calling Ms. Carolyn Beamer at (703) 787-1211. Other inquiries concerning the OCS SC meeting should be addressed to Dr. James Kendall, Executive Secretary to the OCS SC, Minerals Management Service, 381 Elden Street, Mail Stop 4043, Herndon, Virginia 20170-4817 or by calling (703) 787-1656.

SUPPLEMENTARY INFORMATION: The OCS SC will provide advice on the feasibility, appropriateness, and scientific value of the OCS Environmental Studies Program to the Secretary of the Interior through the Director of the MMS. The SC will review the relevance of the research and data being produced to meet MMS scientific information needs for decision making and may recommend changes in scope, direction, and emphasis.

The Committee will meet in plenary session on Wednesday, May 10. The Director will address the Committee on the general status of the MMS and its activities. There will be an update on OCS activities in the Pacific OCS Region, a briefing on the impacts of Hurricanes Katrina and Rita on the Gulf of Mexico OCS program, and MMS's new responsibilities under the Energy Policy Act of 2005.

On Thursday, May 11, the Committee will meet in discipline breakout sessions (i.e., biology/ecology, physical sciences, and social sciences) to review the specific research plans of the MMS regional offices for Fiscal Years 2008 and 2009.

On Friday, May 12, the Committee will meet in plenary session for reports of the individual discipline breakout sessions of the previous day and to continue with Committee business.

The meetings are open to the public. Approximately 30 visitors can be accommodated on a first-come-first-served basis at the plenary session.

Authority: Federal Advisory Committee Act, P.L. 92-463, 5 U.S.C., Appendix I, and the Office of Management and Budget's Circular A-63, Revised.

Dated: April 11, 2006.
Thomas A. Readinger,
Associate Director for Offshore Minerals Management.

[FR Doc. E6-5636 Filed 4-14-06; 8:45 am]

BILLING CODE 4310-MR-P